DEPARTMENT OF LABOR

Office of the Secretary

Child Labor Education Initiative

AGENCY: Bureau of International Labor Affairs, U.S. Department of Labor.

Announcement Type: Notice of Intent to Solicit Cooperative Agreement Applications.

SUMMARY: The U.S. Department of Labor (USDOL), Bureau of International Labor. Affairs (ILAB), intends to obligate up to approximately U.S. $15 million to support cooperative agreement awards to organizations to develop and implement formal, non-formal, and vocational education projects as a means to combat exploitive child labor in the following three countries: (1) Egypt, (2) Peru, and (3) Tanzania. ILAB intends to solicit cooperative agreement applications from qualified organizations (i.e., any commercial, international, educational, or non-profit organization capable of successfully developing and implementing education projects) to implement projects that focus on innovative ways to provide educational services to children engaged, or at risk of engaging, in exploitive labor. The projects should address the gaps and challenges to basic education found in the countries mentioned above. Please refer to http://www.dol.gov/ILAB/grants/main.htm for examples of previous notices of availability of funds and solicitations for cooperative agreement applications.

Information on the specific sectors, geographical regions, and funding levels for the potential projects in the countries listed above will be addressed in a solicitation(s) for cooperative agreement applications to be published prior to September 30, 2006. Potential applicants should not submit inquiries to USDOL for further information on these award opportunities until after USDOL's publication of the solicitations. For a list of frequently asked questions on Child Labor Education Initiative Solicitations for Cooperative Agreement Applications, please visit http://www.dol.gov/ILAB/faq/faq36.htm.

USDOL intends to hold a bidders' meeting on April 21, 2006 to answer questions potential applicants may have on Child Labor Education Initiative Solicitations for Cooperative Agreement process. Please see below for more information on the bidders' meeting.

DATES: Key Dates: A specific solicitation(s) for cooperative agreement applications will be published in the Federal Register and remain open for at least 30 days from the date of publication. All cooperative agreement awards will be made on or before September 30, 2006.

ADDRESSES: Submission Address: Applications, in response to solicitations published in the Federal Register, must be delivered to: U.S. Department of Labor, Procurement Services Center, 200 Constitution Avenue, NW., Room N-5416, Attention: Lisa Harvey, Washington, DC 20210.

FOR FURTHER INFORMATION CONTACT: Ms. Lisa Harvey. E-mail address: harvey.lisa@dol.gov. All inquiries should make reference to the USDOL Child Labor Education Initiative—Solicitations for Cooperative Agreement Applications.

Bidders' Meeting: A bidders' meeting will be held in Washington, DC at the Department of Labor on Friday, April 21, 2006 from 9:30 a.m. to 11:30 a.m. The purpose of this meeting is to provide potential applicants with the opportunity to ask questions concerning the Child Labor Education Initiative Solicitation for Cooperative Agreement process. To register for the meeting, please call or e-mail Ms. Alexa Gunter (Phone: 202-693-4843; e-mail: gunter.alexa@dol.gov) by April 7, 2006. Please provide Ms. Gunter with contact information including name, organization, address, phone number, and e-mail address of the attendees.

Background Information: Since 1995, USDOL has supported a worldwide technical assistance program implemented by the International Labor Organization's International Program on the Elimination of Child Labor (ILO-IPEC). ILAB has also supported the efforts of other organizations involved in efforts to combat child labor internationally through the promotion of educational opportunities for children-in-need. In total, ILAB has provided over U.S. $400 million to ILO-IPEC and other organizations for international technical assistance to combat abusive child labor around the world.

In FY 2006, USDOL's appropriations included funds earmarked for ILO-IPEC and additional funding for bilateral assistance to improve access to basic education internationally in areas with a high rate of abusive and exploitive child labor. All FY 2006 funds will be obligated on or before September 30, 2006.

USDOL's Child Labor Education Initiative seeks to nurture the development, health, safety, and enhanced future employability of children around the world by increasing access to basic education for children removed from child labor or at risk of entering it. Eliminating child labor depends, in part, on improving access to, quality of, and relevance of educational and training opportunities for children under 18 years of age. Without improving such opportunities, children withdrawn from exploitive forms of labor may not have viable alternatives to child labor and may be more likely to return to such work or resort to other hazardous means of subsistence.

In addition to increasing access to education and eliminating exploitive child labor through direct withdrawal and prevention services to children, the Child Labor Education Initiative has the following four strategic goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

When working to increase access to quality basic education, USDOL strives to complement existing efforts to eradicate the worst forms of child labor, to build on the achievements of and lessons learned from these efforts, to expand impact and build synergies among actors, and to avoid duplication of resources and efforts.

Signed at Washington, DC, this 13th day of March, 2006.
Eric Vogt,
Grant Officer.

[FR Doc. E6-3968 Filed 3-17-06; 8:45 am]

BILLING CODE 4510-28-P